DEPARTMENT OF JUSTICE

[AAG/A Order No. 029-2007]

Privacy Act of 1974; System of Records

AGENCY: U.S. Department of Justice.

ACTION: Modification to Systems of Records.

SUMMARY: This notice serves to remove a specific routine use from certain Department of Justice (DOJ) Privacy Act systems of records notices. On January 31, 2001, at 66 FR 8425-32, the following routine use language was added to all DOJ Privacy Act notices published prior to that date, in accordance with a DOJ regulation published at 28 CFR 16.300-01.

[Disclosure ] “To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.”

This routine use is hereby deleted from the following Privacy Act Systems of Records Notices included in the publication of January 31, 2001, at 66 FR 8425-8432:

BOP-014 “Employee Assistance Program (EAP) Record System;”

JMD-002 “Controlled Substances Act Nonpublic Records;”

JMD-016 “Employee Assistance Program (EAP) Counseling and Referral Records;”

USM-015 “U.S. Marshals Service (USMS) Employee Assistance Program (EAP) Records.”

In addition, the language of this routine use is removed from the notice published on March 20, 2001, at 66 FR 15755, entitled USA-020 “Employee Assistance Program (EAP) Counseling and Referral Records.” The language is routine use “f” in that notice. The change in the text of USA-020 is shown below.

EFFECTIVE DATE: These modifications will be effective September 7, 2007.

FOR FURTHER INFORMATION CONTACT: Joo Chung, Counsel, Privacy and Civil Liberties Office, Office of the Deputy Attorney General, 202-514-4921.

Dated: August 27, 2007.
Lee J. Lofthus,
Assistant Attorney General for Administration.

DEPARTMENT OF JUSTICE

System Name:

Employee Assistance Program (EAP) Counseling and Referral Records, Justice/USA-020.

* * * * *

Routine Uses of Records Maintained in The System, Including Categories of Users and the Purposes of Such Uses:

* * * * *

* * *

* * *

* * *

* * *

* * *

[Remove Routine Use “f.”]

* * * * *

[FR Doc. E7-17687 Filed 9-6-07; 8:45 am]

BILLING CODE 4410-FB-P